DEPARTMENT OF COMMERCE

International Trade Administration

[A-552-801]

Certain Frozen Fish Fillets From the Socialist Republic of Vietnam: Initiation of Antidumping Duty New Shipper Review; 2013-2014

AGENCY: Enforcement and Compliance, International Trade Administration, Department of Commerce.

DATES: Effective Date: October 2, 2014.

SUMMARY: The Department of Commerce (“the Department”) received a timely request for a new shipper review (“NSR”) of the antidumping duty (“AD”) order on certain frozen fish fillets (“fish fillets”) from the Socialist Republic of Vietnam (“Vietnam”). The Department determines that the request meets the statutory and regulatory requirements for initiation. The period of review (“POR”) for this NSR is August 1, 2013, through July 31, 2014.

FOR FURTHER INFORMATION CONTACT: Alexander Montoro, AD/CVD Operations, Office V, Enforcement and Compliance, International Trade Administration, U.S. Department of Commerce, 14th Street and Constitution Avenue NW., Washington, DC 20230; telephone: 202-482-0238.

SUPPLEMENTARY INFORMATION:

Background

The AD order on fish fillets from Vietnam was published in the Federal Register on August 12, 2003.¹ On September 2, 2014, pursuant to section 751(a)(2)(B)(i) of the Tariff Act of 1930, as amended (“the Act”), and 19 CFR 351.214(b), the Department received an NSR request from BASA Joint Stock Company (“BASACO”).² BASACO certified that it is a producer and exporter of the subject merchandise and that it exported, or has sold for export, subject merchandise to the United States.³

¹ See Notice of Antidumping Duty Order: Certain Frozen Fish Fillets From the Socialist Republic of Vietnam, 68 FR 47909 (August 12, 2003).

² See Letter from BASACO, “Request for New Shipper Review: Certain Frozen Fish Fillets from the Socialist Republic of Vietnam—8/1/13-7/31/14,” dated September 2, 2014.

³ Id. at 2 and at Exhibit 1.

Pursuant to section 751(a)(2)(B)(i)(I) of the Act and 19 CFR 351.214(b)(2)(i), BASACO certified that it did not export subject merchandise to the United States during the period of investigation (“POI”).⁴ In addition, pursuant to section 751(a)(2)(B)(i)(II) of the Act and 19 CFR 351.214(b)(2)(iii)(A), BASACO certified that, since the initiation of the investigation, it has never been affiliated with any Vietnamese exporter or producer who exported subject merchandise to the United States during the POI, including those respondents not individually examined during the investigation.⁵ As required by 19 CFR 351.214(b)(2)(iii)(B), BASACO also certified that its export activities were not controlled by the central government of Vietnam.⁶

⁴ Id.

⁵ Id.

⁶ Id.

In addition to the certifications described above, pursuant to 19 CFR 351.214(b)(2)(iv), BASACO submitted documentation establishing the following: (1) The date on which it first shipped subject merchandise for export to the United States; (2) the volume of its first shipment; and (3) the date of its first sale to an unaffiliated customer in the United States.⁷

⁷ Id. at Exhibit 2-4.

Finally, the Department conducted a U.S. Customs and Border Protection (“CBP”) database query and confirmed the price, quantity, date of sale, and date of entry of the sale at issue.⁸

⁸ The Department will place the results of the completed CBP database query along with BASACO's entry documents on the record shortly after the publication of this notice.

Initiation of New Shipper Review

Pursuant to section 751(a)(2)(B) of the Act and 19 CFR 351.214(d)(1), and based on the evidence provided by BASACO, we find that the request submitted by BASACO meets the requirements for initiation of the NSR for shipments of fish fillets from Vietnam produced and exported by BASACO.⁹ The POR is August 1, 2013, through July 31, 2014.¹⁰ Absent a determination that the case is extraordinarily complicated, the Department intends to issue the preliminary results of this NSR within 180 days from the date of initiation and the final results within 270 days from the date of initiation.¹¹

⁹ See Memorandum to the File from Alexander Montoro, International Trade Compliance Analyst, “Initiation of Antidumping Duty New Shipper Review: Certain Frozen Fish Fillets from the Socialist Republic of Vietnam (A-552-801)” dated concurrently with and hereby adopted by this notice.

¹⁰ See 19 CFR 351.214(g)(1)(i)(B).

¹¹ See section 751(a)(2)(B)(iv) of the Act.

It is the Department's usual practice, in cases involving non-market economy countries, to require that a company seeking to establish eligibility for an AD rate separate from the country-wide rate provide evidence of de jure and de facto absence of government control over the company's export activities. Accordingly, we will issue a questionnaire to BASACO that will include a section requesting information with regard to BASACO's export activities for separate rate purposes. The review of BASACO will proceed if the response provides sufficient indication that it is not subject to either de jure or de facto government control with respect to its exports of fish fillets.

We will instruct CBP to allow, at the option of the importer, the posting, until the completion of the review, of a bond or security in lieu of a cash deposit for each entry of the subject merchandise from the requesting company in accordance with section 751(a)(2)(B)(iii) of the Act and 19 CFR 351.214(e). Because BASACO certified that it both produced and exported the subject merchandise, the sale of which is the basis for the NSR request, we will instruct CBP to permit the use of a bond only for subject merchandise which BASACO both produced and exported.

Interested parties requiring access to proprietary information in this NSR should submit applications for disclosure under administrative protective order, in accordance with 19 CFR 351.305 and 19 CFR 351.306.

This initiation and notice are published in accordance with section 751(a)(2)(B) of the Act, 19 CFR 351.214 and 351.221(c)(1)(i).

Dated: September 24, 2014.
Gary Taverman,
Associate Deputy Assistant Secretary for Antidumping and Countervailing Duty Operations.

[FR Doc. 2014-23562 Filed 10-1-14; 8:45 am]

BILLING CODE 3510-DS-P